DEPARTMENT OF ENERGY

Federal Energy Regulatory Commission

[Project No. 12607-004]

Massena Electric Department; Notice of Preliminary Permit Application Accepted for Filing and Soliciting Comments, Motions To Intervene, and Competing Applications

June 25, 2009.

On February 3, 2009, Massena Electric Department filed an application for a subsequent preliminary permit pursuant to section 4(f) of the Federal Power Act, to study the feasibility of the Massena Grasse Hydroelectric Project No. 12607-004, to be located in the Town of Massena, on the Grasse River, in St. Lawrence County, New York.

The proposed Massena Grasse Project would consist of: (1) A new 22-foot-high, 245-foot-long concrete gravity dam and a 300-acre impoundment with a normal water surface elevation of 178 feet mean sea level; (2) a new powerhouse containing one generating unit having an installed capacity of 2.5 megawatts; (3) a new 23-kilovolt, 0.25-mile-long transmission line; and (4) appurtenant facilities. The project would have an estimated annual generation of 9,600 megawatt-hours that would be used by the Town of Massena Electric Department.

Applicant Contact: Mr. Andrew McMahon, P.E., Superintendent; the Town of Massena Electric Department; 71 East Hatfield Street; Massena, New York; 13662 (315) 764-0253, Fax (315) 764-1498, and e-mail mcmahon@med.massena.ny.us.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of the Commission's Web site at http://www.ferc.gov/docs-filing/elibrary.asp. Enter the docket number (P-12607) in the docket number field to access the document. For assistance, call toll-free 1-866-208-3372.

Kimberly D. Bose,
Secretary.

[FR Doc. E9-15732 Filed 7-2-09; 8:45 am]

BILLING CODE P